SECURITIES AND EXCHANGE COMMISSION

[Release No. IA-5549]

Notice of Intention To Cancel Registration Pursuant to Section 203(H) of the Investment Advisers Act of 1940

July 27, 2020.

Notice is given that the Securities and Exchange Commission (the “Commission”) intends to issue an order, pursuant to Section 203(h) of the Investment Advisers Act of 1940 (the “Act”), cancelling the registration of Europa Investment Bank Inc. [File No. 801-74257], hereinafter referred to as the “registrant.”

Section 203(h) provides, in pertinent part, that if the Commission finds that any person registered under Section 203, or who has pending an application for registration filed under that section, is no longer in existence, is not engaged in business as an investment adviser, or is prohibited from registering as an investment adviser under section 203A, the Commission shall by order, cancel the registration of such person.

The registrant is not eligible for registration with the Commission under the Act and the rules issued under the Act. This belief is based on our understanding that registrant is relying on rule 203A-1(a)(1) to remain registered with the Commission, though it has insufficient regulatory assets under management.¹ Registrant does not currently have regulatory assets under management of $100 million or more; and it did not have regulatory assets under management of $90 million or more at the time of filing its most recent annual updating amendment. In addition, our belief also is based on our understanding that the registrant is no longer in existence or otherwise engaged in business as an investment adviser. Accordingly, the Commission believes that reasonable grounds exist for a finding that this registrant is no longer eligible to be registered with the Commission as an investment adviser and that the registration should be cancelled pursuant to section 203(h) of the Act.

¹ Rule 203A-1(a)(1) under the Act generally requires an adviser to have assets under management of at least $100 million or at least $90 million at the time of filing its most recent annual updating amendment.

Notice is also given that any interested person may, by August 21, 2020, at 5:30 p.m., submit to the Commission in writing a request for a hearing on the cancellation, accompanied by a statement as to the nature of his or her interest, the reason for such request, and the issues, if any, of fact or law proposed to be controverted, and he or she may request that he or she be notified if the Commission should order a hearing thereon. Any such communication should be emailed to the Commission's Secretary at Secretarys-Office@sec.gov.

At any time after August 21, 2020, the Commission may issue an order cancelling the registration, upon the basis of the information stated above, unless an order for a hearing on the cancellation shall be issued upon request or upon the Commission's own motion. Persons who requested a hearing, or who requested to be advised as to whether a hearing is ordered, will receive any notices and orders issued in this matter, including the date of the hearing (if ordered) and any postponements thereof. Any adviser whose registration is cancelled under delegated authority may appeal that decision directly to the Commission in accordance with rules 430 and 431 of the Commission's rules of practice (17 CFR 201.430 and 431).

ADDRESSES: The Commission: Secretarys-Office@sec.gov.

FOR FURTHER INFORMATION CONTACT: Benjamin A. Tecmire, Senior Counsel at 202-551-6541 (Investment Adviser Regulation Office).

For the Commission, by the Division of Investment Management, pursuant to delegated authority.²
² 17 CFR 200.30-5(e)(2).
J. Matthew DeLesDernier,
Assistant Secretary.

[FR Doc. 2020-16589 Filed 7-30-20; 8:45 am]

BILLING CODE 8011-01-P